DEPARTMENT OF THE INTERIOR

Bureau of Land Management

[OR-020-1020-PG; G-01-0216]

Southeast Oregon Resource Advisory Council; Meeting

AGENCY: Bureau of Land Management (BLM), Burns District, Interior.

ACTION: Meeting Notice for the Southeast Oregon Resource Advisory Council.

SUMMARY: The Southeast Oregon Resource Advisory Council (SEORAC) will meet at the Bureau of Land Management, Burns District Conference Room, Hines, Oregon, 97738, from 8:00 a.m. to 5:00 p.m., Pacific Daylight Time (PDT), on Monday, July 9, 2001, and conduct a field tour at the Eagle Picher Diatomite Mine on Tuesday, July 10, 2001. Contact the BLM office listed below for exact time as the tour date approaches.

The meeting topics to be discussed by the Council will include the possible establishment of subcommittees on sage grouse long-term conservation strategies, Eagle Picher Mines expansion of operations, range management in drought conditions, an update on drought impacts, the Federal officials' update, and such other matters as may reasonably come before the Council. The entire meeting is open to the public. Information to be distributed to the Council members is requested in written format 10 days prior to the start of the Council meeting. Public comment is scheduled for 11:15 a.m. to 11:45 a.m., PDT on July 9, 2001.

FOR FURTHER INFORMATION CONTACT: Additional information concerning the SEORAC may be obtained from Holly LaChapelle, Resource Assistant, Burns District Office, HC 74-12533 Hwy 20 West, Hines, Oregon 97738, (541) 573-4501, or Holly_LaChapelle@or.blm.gov or from the following web site <http://www.or.blm.gov/SEOR-RAC>

Dated: June 7, 2001.
Thomas H. Dyer,
District Manager.

[FR Doc. 01-15703 Filed 6-21-01; 8:45 am]

BILLING CODE 4310-33-M